DEPARTMENT OF DEFENSE

Department of the Army

Intent to Grant an Exclusive License

Correction

In notice document 03-26432 appearing on page 60095 in the issue of Tuesday, October 21, 2003, make the following correction:

On page 60095, in the second column, under SUPPLEMENTARY INFORMATION, in item 1, in the second line, “6,189,651” should read “6,189,651 B1.”

[FR Doc. C3-26432 Filed 10-30-03; 8:45 am]

BILLING CODE 1505-01-D

DEPARTMENT OF HEALTH AND HUMAN SERVICES

Administration for Children and Families

45 CFR Part 303

Standards for Program Operations

Correction

In rule document 03-55530 beginning on page 61634 in the issue of Wednesday, October 29, 2003, make the following correction:

§303.109 [Corrected]

On page 61634, in the first column, in last line, the phrase “Secretary of the U.S. Treasury” is corrected to read “fSecretary of the U.S. Treasuryt”.

[FR Doc. C3-55530 Filed 10-30-03; 8:45 am]

BILLING CODE 1505-01-D

SECURITIES AND EXCHANGE COMMISSION

[Release No. 34-48627A; File No. SR-NASD-2003-130]

Self-Regulatory Organizations; Notice of Filing and Order Granting Accelerated Approval of a Proposed Rule Change and Amendment Nos. 1 and 2 Thereto by the National Association of Securities Dealers, Inc. Relating to Amendments to its Recently Adopted Rules Regarding Shareholder Approval for Stock Option or Purchase Plans or Other Equity Compensation Arrangements

Correction

In notice document 03-27137 beginning on page 61532 in the issue of Tuesday, October 28, 2003, make the following corrections:

On page 61532, in the second column, in paragraph (iv), the sentence beginning eight lines from the bottom should read: “Promptly following an issuance of any employment inducement grant in reliance on this exception, a company must disclose in a press release the material terms of the grant, including the recipient(s) of the grant and the number of shares involved.”

On page 61532, in the second column, in the document file line, “C3” should read “03”.

[FR Doc. C3-27137 Filed 10-30-03; 8:45 am]

BILLING CODE 1505-01-D